DEPARTMENT OF HEALTH AND HUMAN SERVICES

National Institutes of Health

Proposed Collection; Comment Request; Agricultural Health Study—A Prospective Cohort Study of Cancer and Other Diseases Among Men and Women in Agriculture—Influence of Corn Farming on the Immune System Sub-Study

SUMMARY: In compliance with the requirement of section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Agricultural Health Study—A Prospective Cohort Study of Cancer and Other Diseases Among Men and Women in Agriculture—Influence of Corn Farming on the Immune System Sub-study. Type of Information Collection Request: Revision of a currently approved collection (0925-0406, expiration 11/30/03). Need and Use of Information Collection: The Agricultural Health Study (AHS) is an ongoing prospective cohort study of 89,658 farmers, their spouses, and commercial applicators of pesticides from Iowa and North Carolina. The proposed collection of additional information is intended to assess the effects of corn farming activities and exposures during the farming season on the immune system. The collection is intended to determine whether there are immune changes or altered immune function occurring in corn farmers and whether such perturbations are associated with specific farming exposures or activities, such as exposure to certain pesticides during planting or grain dusts during harvesting. The characterization of any changes in immune function occurring in corn farmers may contribute to understanding of the etiology of immune-related diseases that have increased incidence among farmers, including non-Hodgkin's lymphoma and other immune-related cancers. In addition, identification of specific exposures associated with immune effects will assist in subsequent identification of specific etiologic agents for such immune-related effects will assist in subsequent identification of specific etiologic agents for such immune-related diseases. Frequency of Response: Single time reporting. Affected Public: Individuals or households, Farms. Type of Respondents: Male corn farmers who apply pesticides and male agriculture extension workers. The annual reporting burden is as follows: Estimated Number of Respondents: 25,552; Estimated Number of Responses per Respondent: 2.2; Average Burden Hours Per Response: 1.25; and Estimated Total Annual Burden Hours Requested: 14.046. The annualized cost to respondents is estimated at: $144,108. There are no Capital Costs to report. There are no Operating or Maintenance Costs to report.

Request for Comments: Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumption used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Roel Vermeulen, Epidemiology and Biostatistics Program, Divisions of Cancer Etiology, National Cancer Institute, EPN 8109, 6120 Executive Boulevard, Rockville, MD 20852, or call (301) 496-9093, or E-mail your request, including your address, to: vermeulr@mail.nih.gov

Comments Due Date: Comments regarding this information collection are best assured of having their full effect if received within 60 days of the date of this publication.

Dated: October 31, 2002.
Reesa L. Nichols,
NCI Project Clearance Liaison.

[FR Doc. 02-28231 Filed 11-5-02; 8:45 am]

BILLING CODE 4140-01-M